DEPARTMENT OF COMMERCE

National Oceanic and Atmospheric Administration

Science Advisory Board Meeting

AGENCY: Office of Oceanic and Atmospheric Research (OAR), National Oceanic and Atmospheric Administration (NOAA), Department of Commerce (DOC).

ACTION: Notice of open meeting.

SUMMARY: The NOAA Science Advisory Board (SAB) was established by a Decision Memorandum dated September 25, 1997, and is the only Federal Advisory Committee with responsibility to advise the Under Secretary of Commerce for Oceans and Atmosphere on strategies for research, education, and application of science to operations and information services. NOAA SAB activities and advice provide necessary input to ensure that National Oceanic and Atmospheric Administration (NOAA) science programs are of the highest quality and provide optimal support to resource management.

Time and Date: The meeting will be held Tuesday, November 19, 2013 from 10:00 a.m. to 5:30 p.m. and Wednesday, November 20, 2013 from 8:30 a.m. to 2:30 p.m. These times and the agenda topics described below are subject to change. Please refer to the Web page http://www.sab.noaa.gov/Meetings/meetings.html for the most up-to-date meeting agenda.

Place: The meeting will be held in the Washington, DC area; please check the SAB Web site http://www.sab.noaa.gov/Meetings/meetings.html for meeting location and directions.

Status: The meeting will be open to public participation with a 15 minute public comment period on November 19 at 5:15 p.m. (check Web site to confirm time). The NOAA SAB expects that public statements presented at its meetings will not be repetitive of previously submitted verbal or written statements. In general, each individual or group making a verbal presentation will be limited to a total time of five (5) minutes. Individuals or groups planning to make a verbal presentation should contact the NOAA SAB Executive Director by November 12, 2013 to schedule their presentation. Written comments should be received in the NOAA SAB Executive Director's Office by November 12, 2013 to provide sufficient time for NOAA SAB review. Written comments received by the NOAA SAB Executive Director after November 12, 2013 will be distributed to the NOAA SAB, but may not be reviewed prior to the meeting date. Seating at the meeting will be available on a first-come, first-served basis.

Special Accommodations: These meetings are physically accessible to people with disabilities. Requests for special accommodations may be directed no later than 12 p.m. on November 12, 2013, to Dr. Cynthia Decker, SAB Executive Director, SSMC3, Room 11230, 1315 East-West Hwy., Silver Spring, MD 20910.

Matters To Be Considered: The meeting may include the following topics: (1) Review Report on the Cooperative Institute for Research in the Atmosphere (CIRA); (2) Recommendations and Proposed New Members from the Data Archive and Access Requirements Working Group; 3) Recommendations from the from the Ecosystem Sciences and Management Working Group; (4) Discussion of Environmental Information Services Working Group and Climate Working Group comments on NOAA Response to Climate Partnership Task Force Report; (5) NOAA Response to the SAB Satellite Task Force Report; (6) NOAA Response to the Review of the Ocean Exploration Program; (7) SAB Strategic Planning: NOAA Presentation and Discussion; (8) Discussion of SAB Working Groups-Overall Funding and Tasking in a Budget-Constrained Environment; (9) NOAA Update; (10) Update on NOAA Cooperative Institutes; (11) Ocean Exploration Forum Highlights; and (12) Updates from NOAA SAB Working Groups.

FOR FURTHER INFORMATION CONTACT: Dr. Cynthia Decker, Executive Director, Science Advisory Board, NOAA, Rm. 11230, 1315 East-West Highway, Silver Spring, Maryland 20910. (Phone: 301-734-1156, Fax: 301-713-1459. Email: Cynthia.Decker@noaa.gov; or visit the NOAA SAB Web site at http://www.sab.noaa.gov.

Dated: September 26, 2013.
Jason Donaldson,
Chief Financial Officer/Chief Administrative Officer, Office of Oceanic and Atmospheric Research, National Oceanic and Atmospheric Administration.

[FR Doc. 2013-24085 Filed 10-1-13; 8:45 am]

BILLING CODE 3510-KD-P